DEPARTMENT OF DEFENSE

Department of the Army

[Docket ID: USA-2015-0024]

Privacy Act of 1974; System of Records

AGENCY: Department of the Army, DoD.

ACTION: Notice to amend a System of Records.

SUMMARY: The Department of the Army proposes to amend a system of records notice, A0215-1 CFSC, entitled “Non-appropriated Fund Employee Insurance and Retirement Files,” in its inventory of record systems subject to the Privacy Act of 1974, as amended. This system substantiates initial enrollment and subsequent change in the NAF Group Insurance and Retirement Plan, and it is used to verify monthly deductions and to compute annuities, refunds, and death benefit.

DATES: Comments will be accepted on or before July 22, 2015. This proposed action will be effective on the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Tracy Rogers, Department of the Army, Privacy Office, U.S. Army Records Management and Declassification Agency, 7701 Telegraph Road, Casey Building, Suite 144, Alexandria, VA 22315-3827 or by phone at 703-428-7499.

SUPPLEMENTARY INFORMATION: The Department of the Army systems of records notices subject to the Privacy Act of 1974, (5 U.S.C. 552a), as amended, have been published in the Federal Register and are available from the address in FOR FURTHER INFORMATION CONTACT or at the Defense Privacy and Civil Liberties Division Web site at http://dpcld.defense.gov/.

The proposed changes to the record system being amended are set forth below. The proposed amendment is not within the purview of subsection (r) of the Privacy Act of 1974 (5 U.S.C. 552a), as amended, which requires the submission of a new or altered system report.

Dated: June 17, 2015.
Aaron Siegel,
Alternate OSD Federal Register Liaison Officer, Department of Defense.

A0215-1 CFSC

System name:

Non-appropriated Fund Employee Insurance and Retirement Files (August 8, 2001, 66 FR 41574)

Changes:

System identifier:

Delete entry and replace with “A0215-1 HQ IMCOM (G9).”

* * * * *

System Location:

Delete entry and replace with “Non-appropriated Fund (NAF) Employee Benefits Office, 2455 Reynolds Road, Joint Base San Antonio Fort Sam Houston, Texas 78234-7588.”

* * * * *

Authority for maintenance of the system:

Delete entry and replace with “10 U.S.C. 3013, Secretary of the Army; Pub. L. 101-508, Portability of Benefits for NAF Employees Act of 1990; Pub. L. 104-106, National Defense Authorization Act for Fiscal Year 1996; 26 U.S.C. 401, Qualified Pension, Profit-sharing, and Stock Bonus Plans; Army Regulation 215-3, Non-appropriated Funds Personnel Policy; and E.O. 9397 (SSN), as amended.”

* * * * *

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Routine Uses set forth at the beginning of the Army compilation of system of records notices may apply to this system. The complete list of DoD blanket routine uses can be found online at: http://dpcld.defense.gov/Privacy/SORNsIndex/BlanketRoutineUses.aspx.”

Policies and practices for storing, retrieving, accessing, retaining, and disposing of records in the system:

Storage:

Delete entry and replace with “Paper records and electronic storage media.”

Retrievability:

Delete entry and replace with “By individual's name and SSN.”

Safeguards:

Delete entry and replace with “Access is limited to designated authorized individuals having official need for the information in the performance of their duties. Buildings housing records are protected by security guards. DoD Components and approved users ensure that electronic records collected and used are maintained in controlled areas accessible only to authorized personnel. Physical security differs from site to site, but the automated records must be maintained in controlled areas accessible only by authorized personnel. Access to computerized data is restricted by use of common access cards (CACs) and is accessible only by users with an authorized account. The system and electronic backups are maintained in controlled facilities that employ physical restrictions and safeguards such as security guards, identification badges, key cards, and locks.”

Retention and Disposal:

Delete entry and replace with “Keep in Current File Area (CFA) until separation from Federal service occurs and then no longer needed for conducting business, but not more than 6 years after separation, then transfer to the Records Holding Area (RHA). The RHA will destroy records 65 years after separation from service. Disposal of paper records is by shredding or burning. Electronic records are erased.”

System Manager(s) and Address:

Delete entry and replace with “NAF Personnel Services, IMCOM G9-HRB, 2455 Reynolds Road, Joint Base San Antonio Fort Sam Houston, TX 78234-7588.”

Notification Procedure:

Delete entry and replace with “Individuals seeking to determine whether information about themselves is contained in this system should address written inquiries to the Chief, NAF Personnel Services, IMCOM G9-HRB, 2455 Reynolds Road, Joint Base San Antonio Fort Sam Houston, TX 78234-7588.

Individual should provide the name, SSN, current address, and identify the specific category of record involved.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).' ”

Record Access Procedures:

Delete entry and replace with “Individuals seeking access to information about themselves contained in this system should address written inquiries to the Chief, NAF Personnel Services, IMCOM G9-HRB, 2455 Reynolds Road, Joint Base San Antonio Fort Sam Houston, TX 78234-7588.

Individual should provide the name, SSN, current address, and identify the specific category of record involved.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).' ”

* * * * *

[FR Doc. 2015-15259 Filed 6-19-15; 8:45 am]

BILLING CODE 5001-06-P